DEPARTMENT OF HOMELAND SECURITY

Coast Guard

33 CFR Part 117

[Docket No. USCG-2012-0774]

Drawbridge Operation Regulations; Wando River, Cainhoy, SC

AGENCY: Coast Guard, DHS.

ACTION: Notice of temporary deviation from regulations; request for comments.

SUMMARY: The Commander, Seventh Coast Guard District, has issued a temporary deviation from the operating schedule that governs the S41 Swingbridge across the Wando River mile 10.0, at Cainhoy, Berkeley County, South Carolina. This deviation will test a change to the drawbridge operation schedule to determine whether a permanent change to the schedule is needed. This deviation will allow the S41 Swingbridge to open on the hour and half-hour which is anticipated to improve vessel traffic flow.

DATES: This deviation is effective from 8 p.m. on September 1, 2012 through 5 p.m. on December 31, 2012.

Comments and related material must be received by the Coast Guard on or before February 28, 2013.

ADDRESSES: You may submit comments identified by docket number USCG-2012-0774 using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001.

(4) Hand Delivery: Same as the mail address above, between 9 a.m. and 5 p.m., Monday through Friday, except federal holidays. The telephone number is 202-366-9329.

To avoid duplication, please use only one of these four methods. See the “Public Participation and Request for Comments” portion of the SUPPLEMENTARY INFORMATION section below for instructions on submitting comments.

FOR FURTHER INFORMATION CONTACT: If you have questions on this rule, call or email Michael Lieberum, Seventh District Bridge Branch, Coast Guard; telephone (305) 415-6744, email Michael.B.Lieberum@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided.

Submitting Comments

If you submit a comment, please include the docket number for this rulemaking (USCG-2012-0774), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, go to http://www.regulations.gov, click on the “submit a comment” box, which will then become highlighted in blue. In the “Keyword” box insert “USCG-2012-0774,” click “Search,” and then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2012-0774” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one using one of the four methods specified under ADDRESSES. Please explain why one would be beneficial. If we determine that one would aid this rulemaking, we will hold one at a time and place announced by a later notice in the Federal Register.

Basis and Purpose

The S41 Swingbridge across Wando River mile 10.0, Cainhoy, Berkeley County, South Carolina has a vertical clearance of 6 feet in the closed position. The operating schedule as published in 33 CFR 117.939 states the draw of the S41 bridge shall open on signal if at least 12 hours notice is given. This regulation has been in effect since 1965.

Local mariners have asked the Coast Guard to evaluate the operating schedule to determine if more frequent openings would improve the accessibility of the waterway to maritime navigation. An estimated 400 recreational boats use the waterway in the local area. However, boaters upriver from the bridge have stated that the bridge's low vertical clearance and requirement for 12-hours notice prevents boaters from accessing waterways, like Charleston harbor and the ocean, on the downriver side of the bridge. The South Carolina Department of Transportation has advised that approximately 1000 to 3000 vehicles per day cross this bridge. The Coast Guard anticipates daily bridge openings during this test a positive impact on navigation with the increased use of the waterway by vessel traffic.

This deviation is effective from 8 p.m. on September 1, 2012 through 5 p.m. on December 31, 2012. The S41 Swingbridge shall open on the hour and the half hour, 24 hours-a-day, seven days-a-week.

Following the test deviation period, the Coast Guard will review the bridge logs from the bridge owner to evaluate the impact of this test on local marine traffic. The Coast Guard will also consider all comments and related materials submitted in response to this test deviation. The Coast Guard will then evaluate whether a permanent change to the operating schedule of the S41 Swingbridge is necessary, and under what conditions the bridge should open.

In accordance with 33 CFR 117.35(e), the drawbridge must return to its regular operating schedule immediately at the end of the designated time period. This deviation from the operating regulations is authorized under 33 CFR 117.35.

Dated: August 10, 2012.
B.L. Dragon,
Bridge Program Director, Seventh Coast Guard District.

[FR Doc. 2012-20978 Filed 8-24-12; 8:45 am]

BILLING CODE 9110-04-P